DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (Awe”) solicits review and comment from the public, and from local, State and Federal agencies on the following permit requests.

DATES: Comments on these permit applications must be received on or before February 7, 2005.

ADDRESSES: Written data or comments should be submitted to the U.S. Fish and Wildlife Service, Chief, Endangered Species, Ecological Services, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION:

Permit No. TE-094808

Applicant: Department of Marine and Wildlife Resources, Pago Pago, American Samoa. The applicant requests a permit to take (capture, tag, collect biological samples, and salvage) the hawksbill turtle (Eretmochelys imbricata) in conjunction with nest monitoring and scientific research on and near the islands of American Samoa for the purpose of enhancing its survival.

Permit No. TE-096741

Applicant: Pacific Naval Facilities Engineering Command.

The applicant requests a permit to take remove/reduce to possession (collect) Abutilon menziesii (ko'oloa'oula), Abutilon sandwicense (no common name), Achyranthes splendens var. rotundata (round-leaved chaff-flower), Alectryon macrococcus var. macrococcus (mahoe), Bonamia menziesii (no common name), Chamaesyce kuwaleana ('akoko), Chamaesysce skottsbergii var. kalaeloana ('Ewa Plains 'akoko), Cyperus trachysanthos (pu'uke'a), Flueggea neowawraea (mehamehame), Hedyotis parvula (no common name), Lepidium arbuscula ('anaunau), Lipochaeta lobtata var. leptophylla (nehe), Lobelia niihauensis (no common name), Marsilea villosa (ihi'ihi), Neraudia angulata (no common name), Nototrichium humile (kulu'i), Schiedea hookeri (no common name), and Viola chamissoniana ssp. chamissoniana (pamakani) in conjunction with propagation activities on the Island of Oahu, Hawaii, for the purpose of enhancing their survival.

We solicit public review and comment on this recovery permit application.

Dated: December 8, 2004.
David J. Wesley,
Acting Regional Director, Region 1, U.S. Fish and Wildlife Service.

[FR Doc. 05-337 Filed 1-6-05; 8:45 am]

BILLING CODE 4310-55-P